DEPARTMENT OF THE INTERIOR

U.S. Geological Survey

[USGS-8327CPDM2]

Notice of a Revision of a Currently Approved Information Collection (1028-0091)

AGENCY: United States Geological Survey (USGS), Interior.

ACTION: Notice of a revision of a currently approved information collection (1028-0091).

SUMMARY: We (the U.S. Geological Survey) have sent an Information Collection Request (ICR) to the Office of Management and Budget (OMB) for review and approval. The ICR, which is summarized below, describes the nature of the collection and the estimated burden on the public.

DATES: You must submit comments on or before December 28, 2010.

ADDRESSES: Please send your comments and suggestions on this ICR to the Desk Officer for the Department of the Interior at OMB-OIRA at (202) 395-5806 (fax) or OIRA_DOCKET@OMB.eop.gov (e-mail). Please also send a copy of your comments on the ICR to Phadrea Ponds, Information Collection Clearance Officer, U.S. Geological Survey, 2150-C Centre Avenue, Fort Collins, CO 80526 (mail); pondsp@usgs.gov (e-mail).

FOR FURTHER INFORMATION CONTACT: To request additional information about this ICR, please contact USGS, Earlene Swann by mail at U.S. Geological Survey, 2150-C Center Avenue, Fort Collins, CO 80525 or by telephone at (970) 226-9346.

SUPPLEMENTARY INFORMATION:

I. Abstract

This study was approved by OMB (on September 30, 2009). We are requesting a revision of this collection. The U.S. Geological Survey's (USGS) Land Remote Sensing (LRS) Program has been briefed on the results associated with this ICR and has requested additional information to be collected concerning the users of Landsat Imagery. After careful consideration and review of the results, the LRS Program determined that they would like to know more about users of Landsat imagery. Specifically, in order to meet legal and programmatic responsibilities to effectively manage the Landsat system, the LRS has requested additional information about the uses and the values of a defined population of users who obtain imagery from the Earth Resources Observation and Science Center (EROS). EROS is responsible for collecting, processing, archiving, and distributing Landsat imagery. Between 2008 and 2009, there was a five-fold increase in users when imagery became available at no cost beginning in late 2008. The LRS Program is very interested in knowing more about this population of users. The initial information collection provided information about a diverse contingent of Landsat and other moderate-resolution imagery users, but was not generalizable to the entire population of users, and did not include new users who may have begun using Landsat after it became available at no cost. This collection has been revised to provide USGS with information about a population of users for which they currently have no existing data. Additionally, this information could help guide efforts to provide suitable replacement imagery in the event of a break in Landsat continuity by providing a better understanding of likely user responses to this scenario. This information collection will be conducted by scientists and staff in the Policy Analysis and Science Assistance Branch (PASA) of the USGS. The information collection will be conducted online.

II. Data

OMB Control Number: 1028-0091.

Title: Users, Uses, and Value of Landsat Satellite Imagery.

Type of Request: This is a revision of a currently approved collection.

Respondent Obligation: Voluntary.

Frequency of Collection: One-time.

Estimated Annual Number of and Description of Respondents: 14,773. State and Local Government, private individuals, state and local land management officials, scientists, and geographic researchers.

| Annual number of responses | Estimated completion time per respondent | Estimated annual burden
Survey | 13,051 | 30 minutes | 6,526
Non-respondents | 1,722 | 3 minutes | 87
Total | 14,773 |  | 6,613

Estimated Annual Reporting and Recordkeeping “Non-Hour Cost”: There are no “non-hour cost” burdens associated with this collection of information.

III. Request for Comments

We are inviting comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at any time. While you can ask us in your comment to withhold your personal identifying information from public review, we cannot guarantee that we will be able to do so.

Dated: September 22, 2010.
D. Bryant Cramer,
Associate Director for Geography.

[FR Doc. 2010-24374 Filed 9-28-10; 8:45 am]

BILLING CODE 4311-AM-P